DEPARTMENT OF TRANSPORTATION

Federal Aviation Administration

14 CFR Part 97

[Docket No. 30860; Amdt. No. 3495]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 14, 2012. The compliance date for each SIAP, associated Takeoff Minimums, and ODP is specified in the amendatory provisions.

The incorporation by reference of certain publications listed in the regulations is approved by the Director of the Federal Register as of September 14, 2012.

ADDRESSES: Availability of matters incorporated by reference in the amendment is as follows:

For examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC, on August 31, 2012.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 20 September 2012

Elmira/Corning, NY, Elimira/Corning Rgnl, ILS OR LOC RWY 6, Amdt 5

Elmira/Corning, NY, Elimira/Corning Rgnl, RNAV (GPS) RWY 6, Amdt 2

Elmira/Corning, NY, Elimira/Corning Rgnl, RNAV (GPS) RWY 24, Amdt 2

Effective 18 October 2012

Atmore, AL, Atmore Muni, RNAV (GPS) RWY 18, Amdt 1

Atmore, AL, Atmore Muni, RNAV (GPS) RWY 36, Amdt 1

Mountain View, CA, Moffett Federal Airfield, Takeoff Minimums and Obstacle DP, Amdt 2

Davenport, IA, Davenport Muni, RNAV (GPS) RWY 3, Amdt 1A

Davenport, IA, Davenport Muni, RNAV (GPS) RWY 21, Amdt 1A

Sparta, IL, Sparta Community-Hunter Field, RNAV (GPS) RWY 18, Amdt 1

Patterson, LA, Harry P Williams Memorial, Takeoff Minimums and Obstacle DP, Amdt 1A

Brainerd, MN, Brainerd Lakes Rgnl, RNAV (GPS) RWY 12, Amdt 1, CANCELED

Brainerd, MN, Brainerd Lakes Rgnl, RNAV (GPS) RWY 30, Amdt 1, CANCELED

Ronan, MT, Ronan, RNAV (GPS) RWY 16, Amdt 1

Ronan, MT, Ronan, RNAV (GPS) RWY 34, Amdt 1

Montauk, NY, Montauk, Takeoff Minimums and Obstacle DP, Amdt 3

Carrollton, OH, Carroll County-Tolson, GPS RWY 7, Orig, CANCELED

Carrollton, OH, Carroll County-Tolson, RNAV (GPS) RWY 7, Orig

Carrollton, OH, Carroll County-Tolson, VOR-A, Amdt 1

Platteville, WI, Platteville Muni, RNAV (GPS) RWY 7, Orig-A

Effective 15 November 2012

Pago Pago, AQ, Pago Pago Intl, VOR-D, Amdt 6A

Phoenix, AZ, Phoenix Sky Harbor Intl, Takeoff Minimums and Obstacle DP, Amdt 5

Atlanta, GA, Atlanta Rgnl Falcon Field, ILS OR LOC RWY 31, Amdt 2

Atlanta, GA, Atlanta Rgnl Falcon Field, NDB RWY 31, Amdt 3

Atlanta, GA, Atlanta Rgnl Falcon Field, RNAV (GPS) RWY 13 Amdt 2

Atlanta, GA, Atlanta Rgnl Falcon Field, RNAV (GPS) RWY 31 Amdt 2

Atlanta, GA, Covington Muni, NDB RWY 28, Amdt 3

Atlanta, GA, Covington Muni, Takeoff Minimums and Obstacle DP, Amdt 2

Atlanta, GA, Covington Muni, VOR/DME RWY 10, Amdt 5

Atlanta, GA, Paulding Northwest Atlanta, ILS OR LOC/DME RWY 31, Orig-B

Atlanta, GA, Paulding Northwest Atlanta, RNAV (GPS) RWY 31, Orig-B

Waycross, GA, Waycross-Ware County, ILS OR LOC RWY 18, Amdt 2

Waycross, GA, Waycross-Ware County, RNAV (GPS) RWY 18, Amdt 1

Waycross, GA, Waycross-Ware County, RNAV (GPS) RWY 36, Amdt 1

Waycross, GA, Waycross-Ware County, Takeoff Minimums and Obstacle DP, Amdt 1

Waycross, GA, Waycross-Ware County, VOR-A, Amdt 9

Evansville, IN, Evansville Rgnl, ILS OR LOC RWY 4, Amdt 2A

Bowling Green, KY, Bowling Green-Warren County Rgnl, VOR/DME RWY 21, Amdt 8A, CANCELED

Owensboro, KY, Owensboro-Daviess County, Takeoff Minimums and Obstacle DP, Amdt 5

Owensboro, KY, Owensboro-Daviess County, VOR RWY 6, Amdt 2

Owensboro, KY, Owensboro-Daviess County, VOR RWY 18, Amdt 10

Owensboro, KY, Owensboro-Daviess County, VOR RWY 36, Amdt 19

Bogalusa, LA, George R Carr Memorial Air Fld, LOC RWY 18, Amdt 3

Bogalusa, LA, George R Carr Memorial Air Fld, RNAV (GPS) RWY 18, Amdt 1

Bogalusa, LA, George R Carr Memorial Air Fld, RNAV (GPS) RWY 36, Amdt 1

Bogalusa, LA, George R Carr Memorial Air Fld, Takeoff Minimums and Obstacle DP, Amdt 3

Fosston, MN, Fosston Muni, RNAV (GPS) RWY 16, Orig-A

Fosston, MN, Fosston Muni, RNAV (GPS) RWY 34, Orig-A

Newark, NJ, Newark Liberty Intl, RNAV (GPS) Y RWY 4R, Amdt 1D

Belen, NM, Alexander Muni, Takeoff Minimums and Obstacle DP, Amdt 1

Reno, NV, Reno/Stead, RNAV (GPS) RWY 32, Amdt 1A

White Plains, NY, Westchester County, COPTER ILS OR LOC/DME RWY 16, Orig-E, CANCELED

White Plains, NY, Westchester County, NDB RWY 16, Amdt 21C, CANCELED

Altoona, PA, Altoona-Blair County, ILS OR LOC RWY 21, Amdt 7

Altoona, PA, Altoona-Blair County, RNAV (GPS) RWY 21, Amdt 1

Altoona, PA, Altoona-Blair County, RNAV (GPS) Y RWY 21, Orig, CANCELED

Altoona, PA, Altoona-Blair County, RNAV (GPS) Z RWY 3, Orig

Altoona, PA, Altoona-Blair County, VOR-A, Amdt 5A

Nashville, TN, Nashville Intl, Takeoff Minimums and Obstacle DP, Amdt 8

Bryan, TX, Coulter Field, RNAV (GPS) RWY 15, AMDT 1

Bryan, TX, Coulter Field, RNAV (GPS) RWY 33, AMDT 1

College Station, TX, Easterwood Field, RNAV (GPS) RWY 10, Amdt 1A

Houston, TX, Ellington Field, RNAV (GPS) RWY 22, Amdt 2A

Voroqua, WI, Viroqua Muni, RNAV (GPS) RWY 11, Orig-A, CANCELED

Voroqua, WI, Viroqua Muni, Takeoff Minimums and Obstacle DP, Amdt 1

RESCINDED: On August 20, 2012 (77 FR 50012), the FAA published an Amendment in Docket No. 30855, Amdt No. 3490 to Part 97 of the Federal Aviation Regulations under section 97.33. The following 3 entries for Sacramento, CA, effective 20 September 2012, are hereby rescinded in their entirety:

Sacramento, CA, Sacramento Intl, RNAV (GPS) Y RWY 34L, Amdt 1A

Sacramento, CA, Sacramento Intl, RNAV (GPS) Y RWY 34R, Orig-D

Sacramento, CA, Sacramento Intl, RNAV (RNP) Z RWY 16R, Orig

[FR Doc. 2012-22260 Filed 9-13-12; 8:45 am]

BILLING CODE 4910-13-P